DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending March 31, 2000.

Last name | First | Middle
ADAMS JR. | CLIFTON
AHN | BYUNG | SUHN
AKA SISTER M. CHRISTOPHORIS | HELGA | IGLBRIND
ALATALO | ALVAR
APPLEGATE | YANGSON
ARCHER | MICHAEL | DIXON
ASHBROOK | JOHN | B.
AUYANG | WILLIAM | MANYUNG
BAKER | RICHARD | KARL
BANOS | MARIE
BANOS | OSVALDO
BARSAMIAN | SUZANNE | KOHAR
BENICY | FRANCOIS | J.
BERG | CHRISTIAN
BERNARD | CHARLES | WILLIAM
BEUPRE | DENNISFF | ALBERT
BLOM | THOMAS | EDGAR
BOHANNON | CLINTON | NATHANIEL
BRADFORD | KEVIN | JOSEPH
BURKART | ELIZABETH | ANN
CAMU | PHILIPPE | LOUIS
CANDRAY | RONALD | CARLOS
CANTERBURY | DAVIDF | EDWARD
CARHART | JEFFREY | COLWILL
CATTIER | ANNE | SOPHIE
CHAN | KAM | TAI
CHANTLER | ANGELA | MARGARET-JENNIFER
CHIODO | ERIKA | ELISABETH
CHO | HYUN-CHAN
CHO | YONG | CHA
CHO (AKA HYUN-CHAN CHO) | SUNGWOOK
CLARK | JAMES | ADAMS
COCKSWORTH | GRAHAM | ROGER
CORNISH | FRANCESCA | SHARON
COWAN | JOHN | WILLIAM
CRAMER | ALICE | CAROL
CRAMER | RICHARD | ALLEN
CUNTZE | JENS | FRANK
DAIMOND | TRICIA
DE GRASPE BEAUBIEN-MATTRICK | NANON
DE HAES | ELIZABETH | SPERRY
DE PENTHENY O'KELLY | LINDA | ELIZABETH
DE WIT | CYNTHIA | ANN
DEL BONO | ALBERTO
DEL GRANADO | RAFAEL | FRANCISCO
DROULERS | GABRIEL
DUDKOWSKI | BRITTNEY | LUNDIN
ECKHART | DIANA | KAREN
ECKHART | SUZANN
ELKINS | JOAN
ETTER | VERENA | BARBARA
EVEN-ZOHAR | ADINA | MICHAL
FENSTERMAKER | ROBERT | FRANCIS
FILLER | KERRY | FLYNN
FIRMENICH | SEBASTIAN | BERNARD
FITTON-IRVINE | KATE
FORSTER | IRAENE | ERIKA
FUJITA | SUMIKO
GALANTO | JUTTA | EVA
GALLA | RAMACHANDRA | NAIDA
GARRISON | PAUL | EUGENE
GESMAR-LARSEN | SUZANNE | PATRICIA
GOURLAY | GILDA | RAMES
GRANT | ROBERT | MICHAELE
GRAY | JANICE | L.
GROS | CARLOS | RANDOLPHO
GROS | FRANCISCO | HENRIQUE
GUDEFIN | PHILIPPE | G.
HABIE-DENBERG | ELIZABETH
HARRISON | MICHAEL | J.
HECKMANN | ANDREA | KAY-EISBETH
HEITZMANN | JOSEE | CHRISTINE
HEMMEN | GABRIELE | MARIA
HENDRICKSON | HARLAND | REESE
HERMANN | JOEL | PAUL
HICKS | SIGVARD | URIEL
HILGERS | PHILIP
HILL | JOHN | KENNETH-LINN
HOFMANN | ALOIS | HEINRICH
HOWE | THOMAS | DAVID
IRVINE | KATE | PITTON
JACKSON-GOLDET | ALICE
JALBERT | DORIS | ERIKA
JEFFERIS | JANE | EASON
JENSEN | ESTHER | MARIE
JENSEN | ESTHER | MARIE
JERNIGAN | STEPHEN | A.
JOHANSEN, NEE WAGNER | FLORENCE | ELIZABETH
JONES | TEIA | LUVON
KAN | YAIR | DAVID
KANG | DAEIN
KANG | KEUN | SOON
KAPPELER | THOMAS
KARNATZ | VERNON | LEE
KIM | CHAE | MIN
KIM | JONG | CHUL
KIM | SON | OK
KIM-BARRASS | MOON | HUI
KLOZ | MICHAEL | JON
KNABEN | BJORN-HELGE
KOVALA | MINNA | HILJA
LAWRIE | AILEEN | MARGARET
LEE | AMITA | ILCHUL
LEE | HELEN | EUNYONG
LEE | SANDY | JA
LEGGIO | MARIO
LEMOS | ADAMANTIOE | MICHAEL
LEWIS | DAVID | H.
LEWIS | DOUGLAS | WINDSOR
LEWIS | LILIAN | I.
LEYA | HEIDI
LICHTERMAN | HOWARD
LIM | JOHN | HAN
LOMBARD | ALEXIS | OLIVER
MACDONALD | DONALD | VICTOR
MARDSEN | JUDY | SUSAN
MAROCCO | PIA | LUISA
MARUS | JEFFREY | CHAMP
MARUS | NANCY | MUSE
MATHUR | ANITA | SIMLOT
MATTHAEUS | SUSANNE
MC CAW | SEAN | JAMEL
MCINTOSH | ISABEL | HELEN
MEISSNER | SHARON | MINERVA
MERIZALDE | CAMILO
MICKENS | DARRELL | DWAIN
MILTON | JOHN | CHARLES
MITCHELL | DORIS | ARLENE
MOORE | ALFRED | TURNEY
MORENO | PABLO
MOSKO | GEORGE | JAMES
MURERO | MARIO | GERHART
MURRY JR. | WILLIAM
NEWSON | SIMON | DAVID
NIPPA | JURGEN | HEINZ
OH | CHRISTOPHER
OWENS | KARIN | BARBARA
OYASKI | JOSEPH | THOMAS
PAPANDREOU | GEORGE | JEFFREY
PEREZ-VELASCO | JULIEO
PETERSEN | PER | NOVI
PETERSON | TANJA | SIGRID
PROSINGER | BERNHARD | AUGUST
RAKOBITSCH | AUGUSTINE
REDOLFI | VERONIKA
REID | BRUCE | HUNTER
RIIBER | SUZANNE | MAY
ROCKOWITZ | BRUCE | P.
ROEHR | KUNO | MANFRED
SABA | KFAR
SAGIE | TOVA
SAYHER | RONALD | BROOKS
SCHERRER | ERIC | RONALD
SHAH | SAMIR | SURENDRA
SHIU | MAN | HEI
SIMPSON | DONALD | MILLER
SINANAJ.NEE ALTHEIDE | MONA | MARIE
SMITH | KARIN | DOROTHY
SMITHEY | JEANIE | MARIA
SOBAK | STEVEN | JOHN
SPROWLS | SVEN | CHRISTOPHER
STEPHENSON | MANUELA
STURMAN | VERA
SUTTER | MARCIA | JEAN
TERWILLIGER | ERIC | WILLIAM
THULLEN | PATRICK
TINTE JR. | JOACHIM
TRETHOWAN | IRENE | SUSAN
TUEN | JUDY | ANN
UHM | SUNG | JIN
VAN GOETHEM | ROBERT | C.
VAN LOON | PHILIPPA | CATHERINE
VAN RIJCKEVORSEL | CEDRIC | ANDRE
VIERHEILIG | EVA | CHRISTINE
VON STRASDAS | HAI-TI | LEE
VON STRASDAS | VOLDEMAR | ARNOLD
WENMAN | CAROLE | L.
WICK | DOROTHY | BERYL
WILLIAMS JR. | CHARLES | EDWARD
WOLF | GREGOR | BALERIAN
WONG | WINSTON | SHUI WAH
YOUNG | PRATIMA | LEUNG-YUNG
ZAHM | HANS
ZAHM | MINA
ZAVADIL | CAROLYN | MARIE

Approved: May 14, 2000.
Doug Rogers,
Chief, Special Projects Branch, International District.

[FR Doc. 00-13775 Filed 6-1-00; 8:45 am]

BILLING CODE 4830-01-U